FEDERAL COMMUNICATIONS COMMISSION

[DA 19-157]

Disability Advisory Committee; Announcement of First Meeting

AGENCY: Federal Communications Commission.

ACTION: Notice.

SUMMARY: In this document, the Commission announces and provides an agenda for the first meeting of the third term of its Disability Advisory Committee (DAC or Committee).

DATES: Wednesday, April 10, 2019. The meeting will come to order at 9:00 a.m. Eastern Time.

ADDRESSES: Federal Communications Commission, 445 12th Street SW, Washington, DC 20554, in the Commission Meeting Room.

FOR FURTHER INFORMATION CONTACT: Will Schell, Designated Federal Officer (DFO), at (202) 418-0767 (voice) or DAC@fcc.gov; or Debra Patkin, Alternate DFO, at (202) 870-5226 (voice or videophone for American Sign Language users).

SUPPLEMENTARY INFORMATION: This meeting is open to members of the general public. The meeting will be webcast with open captioning at: www.fcc.gov/ live. In addition, a reserved amount of time will be available on the agenda for comments and inquiries from the public. Members of the public may comment or ask questions of presenters via the email address livequestions@fcc.gov.

The meeting site is fully accessible to people using wheelchairs or other mobility aids. Sign language interpreters, open captioning, and assistive listening devices will be provided on site. Other reasonable accommodations for people with disabilities are available upon request. Requests for such accommodations or for materials in accessible formats for people with disabilities (Braille, large print, electronic files, audio format) should be submitted via email to: fcc504@fcc.gov or by calling the Consumer and Governmental Affairs Bureau at (202) 418-0530 (voice), (202) 418-0432 (TTY). Such requests should include a detailed description of the accommodation needed and a way for the FCC to contact the requester if more information is needed to fill the request. Requests should be made as early as possible; last minute requests will be accepted but may not be possible to accommodate.

Proposed Agenda: At this meeting, the DAC is expected to discuss the roles and responsibilities of the Committee and its members; issues that the Committee will address; meeting schedules; and any other topics relevant to the DAC's work. The DAC may also receive briefings from Commission staff on issues of interest to the Committee and may discuss topics of interest to the committee, including, but not limited to, matters concerning communications transitions, telecommunications relay services, emergency access, and video programming accessibility.

Federal Communications Commission.
Eliot Greenwald,
Deputy Chief, Disability Rights Office, Consumer and Governmental Affairs Bureau.

[FR Doc. 2019-05179 Filed 3-19-19; 8:45 am]

BILLING CODE 6712-01-P